FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 5, 2000.

A. Federal Reserve Bank of Atlanta (Cynthia C. Goodwin, Vice President) 104 Marietta Street, N.W., Atlanta, Georgia 30303-2713:

1. James E. Sharber, Bainbridge, Georgia; to acquire additional voting shares of, and Tabitha Gail Sharber; James E. Sharber III; Jerry Sharber; Sandra Lynn Sharber; Patricia Ann Sharber; Elysia Jy Sharber; James E. Sharber, Jr.; Gail Sharber; Lisa Ann Sharber; Martha Clement; Harold Clement, all of Bainbridge, Georgia; and Pete Sharber, Hazelhurst, Georgia, to retain voting shares of, Port City Holding Company, Bainbridge, Georgia, and thereby indirectly acquire or retain voting shares of First Port City Bank, Bainbridge, Georgia.

Board of Governors of the Federal Reserve System, August 16, 2000.
Robert deV. Frierson,
Associate Secretary of the Board.

[FR Doc. 00-21282 Filed 8-21-00; 8:45 am]

BILLING CODE 6210-01-P